DEPARTMENT OF ENERGY

Federal Energy Regulatory Commission

[Project No. 2004-075-Massachusetts]

City of Holyoke Gas & Electric Department; Notice

February 18, 2004.

By notice of January 28, 2003, Commission staff was assigned to help facilitate resolution of environmental and related issues associated with development of a comprehensive settlement agreement for the Holyoke Project. The following staff will also be considered “separated staff” and will take no part in the Commission's review of the offer of settlement and the comprehensive settlement agreement, or deliberations concerning the disposition of the rehearings:

Robert Grieve, Office of Energy Projects.

Magalie R. Salas,
Secretary.

[FR Doc. E4-363 Filed 2-23-04; 8:45 am]

BILLING CODE 6717-01-P